DEPARTMENT OF HOMELAND SECURITY

Coast Guard

33 CFR Part 110

[CG01-05-101]

RIN 1625-AA01 (Previously reported as RIN 1625-AA98)

Anchorage Regulations; Port of New York and Vicinity

AGENCY: Coast Guard, DHS.

ACTION: Final rule.

SUMMARY: The Coast Guard is establishing a Special Anchorage Area in Haverstraw Bay on the Hudson River adjacent to Haverstraw, NY. This action is necessary to facilitate safe navigation in that area and provide safe and secure anchorages for vessels not more than 20 meters in length. This action is intended to increase the safety of life and property on the Hudson River, improve the safety of anchored vessels, and provide for the overall safe and efficient flow of recreational vessel traffic and commerce.

DATES: This rule is effective June 29, 2006.

ADDRESSES: Comments and material received from the public, as well as documents indicated in this preamble as being available in the docket, are part of docket (CGD01-05-101) and are available for inspection or copying at Waterways Management Division (CGD01-05-101), Coast Guard Sector New York, 212 Coast Guard Drive, room 321, Staten Island, New York 10305 between 8 a.m. and 3 p.m., Monday through Friday, except Federal holidays.

FOR FURTHER INFORMATION CONTACT: Lieutenant Commander M. McBrady, Waterways Management Division, Coast Guard Sector New York at (718) 354-2353.

SUPPLEMENTARY INFORMATION:

Regulatory Information

On January 19, 2006, we published a notice of proposed rulemaking (NPRM) entitled Anchorage Regulations; Port of New York and Vicinity in the Federal Register (71 FR 3025). We received no letters commenting on the proposed rule. No public meeting was requested, and none was held.

Background and Purpose

As part of a waterfront revitalization effort the Village of Haverstraw is encouraging waterfront use by the general public. This rule is in response to a request made by the Village of Haverstraw to ensure the safe navigation of increased vessel traffic expected to arrive along the village waterfront due to this revitalization effort.

The Coast Guard is designating an area as a special anchorage area in accordance with 33 U.S.C. 471. In accordance with that statute, vessels will not be required to sound signals or exhibit anchor lights or shapes which are otherwise required by rule 30 and 35 of the Inland Navigation Rules, codified at 33 U.S.C. 2030 and 2035.

The special anchorage area will be located on the west side of the Hudson River about 1,800 yards south of Bowline Point, well removed from the channel and located where general navigation will not endanger or be endangered by unlighted vessels. Providing anchorage well removed from the channel and general navigation will greatly increase navigational safety.

This special anchorage area is part of a waterfront revitalization project authorized under U.S. Army Corps of Engineers permit number 2004-00596-YR.

Discussion of Comments and Changes

No comments were received, and no changes were made from the proposed rule.

Discussion of Rule

This rule creates a new special anchorage area located on the Hudson River at the Village of Haverstraw, New York, on Haverstraw Bay. It includes all waters of the Hudson River bound by the following points: 41°11′25.2″ N, 073°57′19.9″ W; thence to 41°11′34.2″ N, 073°57′00.8″ W; thence to 41°11′41.9″ N, 073°57′07.5″ W; thence to 41°11′31.8″ N, 073°57′26.5″ W; thence to 41°11′30.8″ N, 073°57′24.9″ W; thence to the point of origin (NAD 1983). All coordinates are North American Datum 1983 (NAD 83).

The special anchorage area is limited to vessels no greater than 20 meters in length. Vessels not more than 20 meters in length are not required to sound signals as required by rule 35 of the Inland Navigation Rules (33 U.S.C. 2035) nor exhibit anchor lights or shapes required by rule 30 of the Inland Navigation Rules (33 U.S.C 2030) when at anchor in a special anchorage area. Additionally, mariners utilizing the anchorage areas are encouraged to contact local and state authorities, such as the local harbormaster, to ensure compliance with additional applicable state and local laws. Such laws may involve, for example, compliance with direction from the local harbormaster when placing or using moorings within the anchorage.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

This finding is based on the fact that this special anchorage area does not extend past the 18-foot contour on the west side of the Hudson River, which leaves approximately 1,680 yards of safe water before reaching the 18-foot contour on the east side of the Hudson River. The resulting impact to vessel transits in this area is so minimal, because the special anchorage area leaves more than enough room for the navigation of all vessels. This will allow for greater safety of navigation and traffic in the area, while also providing for a substantial improvement to the safety of anchorages in the area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of recreational or commercial vessels intending to transit in a portion of the Hudson River near or through the special anchorage area. However, this special anchorage area will not have a significant economic impact on these entities for the following reasons. The special anchorage area does not extend past the 18-foot contour on the west side of the Hudson River. This leaves approximately 1,680 yards of safe water before reaching the 18-foot contour on the east side of the Hudson River. It is also about 800 yards from the 600-foot wide Hudson River Federal Project Channel. This is more than enough room for the types of vessels currently operating on the river, which include both small and large commercial vessels. Thus this special anchorage area will not impede safe and efficient vessel transits on the Hudson River.

Assistance for Small Entities

Under section 213(a) of the Small Business Regulatory Enforcement Fairness Act of 1996 (Pub. L. 104-121), we offered to assist small entities in understanding the rule so that they could better evaluate its effects on them and participate in the rulemaking process. The Coast Guard did not receive any requests for assistance with this rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, and Department of Homeland Security Management Directive 5100.1, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation. This rule fits the category selected from paragraph (34)(f) as it establishes a special anchorage area.

A final “Environmental Analysis Check List” and a final “Categorical Exclusion Determination” are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471; 1221 through 1236, 2030, 2035 and 2071; 33 CFR 1.05-1(g); and Department of Homeland Security Delegation No. 0170.1.

2. Amend § 110.60 to add new paragraph (p)(p-3) to read as follows:

§ 110.60 Port of New York and vicinity.

* * * * *

(p) * * *

(p-3) Hudson River, at Village of Haverstraw. That portion of the Hudson River bound by the following points: 41°11′25.2″ N, 073°57′19.9″ W; thence to 41°11′34.2″ N, 073°57′00.8″ W; thence to 41°11′41.9″ N, 073°57′07.5″ W; thence to 41°11′31.8″ N, 073°57′26.5″ W; thence to 41°11′30.8″ N, 073°57′24.9″ W; thence to the point of origin (NAD 1983).

* * * * *

Dated: May 11, 2006.
Mark J. Campbell,
Captain, U.S. Coast Guard, Acting Commander, First Coast Guard District.

[FR Doc. E6-8298 Filed 5-26-06; 8:45 am]

BILLING CODE 4910-15-P